DEPARTMENT OF THE INTERIOR

Bureau of Reclamation

Acquisition of Additional Water for Meeting the San Joaquin River Agreement Flow Objectives, 2000-2010

AGENCY: Bureau of Reclamation, Interior.

ACTION: Notice of availability of the Final Supplemental Environmental Impact Statement/Environmental Impact Report (Final SEIS/EIR).

SUMMARY: Pursuant to the National Environmental Policy Act (NEPA) and the California Environmental Quality Act (CEQA), the Bureau of Reclamation (Reclamation) and the San Joaquin River Group Authority (SJRGA) have prepared a joint Final SEIS/EIR for the acquisition of additional water for meeting the San Joaquin River Agreement Flow Objectives, 2001-2010. Reclamation and SJRGA prepared a Draft SEIS/EIR for the Proposed Action/Project in December 2000. This supplemental document covers minor additions to the Proposed Project/Action addressed in the Final EIS/EIR (1999 FEIS/EIR) prepared for Meeting Flow Objectives for the San Joaquin River Agreement (SJRA), 1999-2010 (January 1999). The 1999 FEIS/EIR documented the environmental consequences of acquiring and using flows specified in the SJRA.

The purpose of the Proposed Project/Action is to supplement, under Paragraph 8 of the SJRA, the water provided by the SJRA that has been analyzed in the 1999 FEIS/EIR. The supplemental water consists of up to 47,000 acre-feet from the Tuolumne and Merced Rivers to provide full Vernalis Adaptive Management Plan (VAMP) test flow conditions at Vernalis during “double step years” for water years 2001 through 2010. This supplemental water may also assist Reclamation in meeting the Anadromous Fish Restoration Plan, Bay-Delta flow objectives as required by State Board Decision 1641, and the U.S. Fish and Wildlife Service's 1995 Biological Opinion for Delta Smelt.

The Proposed Project/Action area includes the Tuolumne, Merced, Stanislaus, and San Joaquin Rivers and related reservoirs and water districts in the counties of Tuolumne, Merced, Stanislaus, San Joaquin, Mariposa, and Calaveras.

DATES: No decision will be made on the Proposed Project/Action until at least 30 days after the release of the Final SEIS/EIR. After the 30-day waiting period, Reclamation will be preparing a Record of Decision which will state the action to be implemented and the factors leading to the agency's decision.

ADDRESSES: Copies of the Final SEIS/EIR may be requested from Mr. John Burke, Bureau of Reclamation, Mid-Pacific Region, 2800 Cottage Way, MP-410, Sacramento, CA 95825-1898, (916) 978-5556, or Mr. Dan Fults, SJRGA, 200 Capitol Mall, Suite 900, Sacramento, CA 95814, (916) 449-3957.

See SUPPLEMENTARY INFORMATION section for locations where copies of the Final SEIS/EIR are available for public inspection.

FOR FURTHER INFORMATION CONTACT: Mr. John Burke, Reclamation, at (916) 978-5556 [TDD (916) 978-5608]; or Mr. Dan Fults, SJRGA, at (916) 449-3957.

SUPPLEMENTARY INFORMATION: The SJRA was established to provide a level of protection equivalent to the San Joaquin River flow objectives contained in the State Water Resources Control Board's (SWRCB) 1995 Water Quality Control Plan for the lower San Joaquin River and San Francisco Bay-Delta Estuary (Delta). A key part of the SJRA is the VAMP which is a scientifically based adaptive fishery management plan to help determine the relationships between flows, exports, and other factors on fish survival in this region of the Delta. The SWRCB adopted pertinent provisions of the SJRA on December 29, 1999, and issued its Revised Water Right Decision 1641 (D-1641) containing these provisions on March 15, 2000. D-1641 approved implementation of the VAMP through December 31, 2011.

The 1999 FEIS/EIR was prepared in January 1999 by the SJRGA and Reclamation to meet CEQA and NEPA requirements to address environmental impacts associated with acquiring water to meet the flow objectives in the SJRA. This document addressed the need for up to 110,000 acre-feet to meet a 31-day spring pulse flow target in the San Joaquin River at Vernalis. The SJRA allows for willing sellers among the SJRGA to sell Reclamation additional water when the spring pulse flow target exceeds 110,000 acre-feet. The 1999 FEIS/EIR prepared for the SJRA acknowledged the need for this additional water from willing sellers in some water years but did not address the environmental impacts associated with acquiring this supplemental water.

The purpose of the Final SEIS/EIR is to update and supplement analyses presented in the 1999 FEIS/EIR to address the acquisition of up to 47,000 acre-feet of water annually during the 2001 through 2010 water years.

Copies of the Final SEIS/EIR are available for public inspection and review at the following locations:

• San Joaquin River Group Authority, 400 Capitol Mall, Suite 900, Sacramento, California 95814; telephone: (916) 449-3957

• Bureau of Reclamation, Denver Office Library, Building 67, Room 167, Denver Federal Center, 6th and Kipling, Denver, Colorado 80225; telephone: (303) 445-2072

• Bureau of Reclamation, Public Affairs Office, 2800 Cottage Way, Sacramento, California 95825-1898; telephone: (916) 978-5100

• Natural Resources Library, U.S. Department of the Interior, 1849 C Street NW, Main Interior Building, Washington, DC 20240-0001

Dated: March 13, 2001.
Lowell F. Ploss,
Deputy Regional Director.

[FR Doc. 01-8754 Filed 4-9-01; 8:45 am]

BILLING CODE 4310-MN-P